DEPARTMENT OF DEFENSE

Defense Logistics Agency

Cost Sharing Cooperative Agreement Applications

AGENCY: Defense Logistics Agency (DLA).

ACTION: Notice of solicitation for cost sharing cooperative agreement applications.

SUMMARY: The Defense Logistics Agency (DLA) issued a solicitation for cooperative agreement applications (SCAA) to assist state and local governments and other nonprofit eligible entities in establishing or maintaining procurement technical assistance centers (PTACs). These centers help business firms market their goods and services to the Department of Defense (DoD), other federal agencies, and state and/or local government agencies. Notice of the issuance of this SCAA was published in the March 18, 2003 Federal Register (Volume 68, Number 52, page 12897). This solicitation governs the submission of applications for calendar years 2003 thru 2007 and applies to all applications from all eligible entities, including Indian Economic Enterprises and Indian Tribal Organizations. The current and applicable SCAA is available at the Internet Web site listed below. The FY 2005 DoD Appropriations Act (Pub. L. 108-287) has appropriated funds for the continuance of the program in FY 2005 and requires DoD to make available not less than $3.6 million for applicants that meet the definition 10 U.S.C. 2411(1)(D). The 3 existing PTACs meeting this definition will not utilize the entire $3.6 million, therefore, pursuant to Section “I” paragraph “K” of the SCAA, notice is hereby given that limited additional funds are available in order to accept applications for additional new programs from eligible entities, but limited only to those that meet either definition listed in Section “II” paragraphs “19.d” (Indian Economic Enterprise) or “19.e” (Indian Tribal Organization) of the SCAA. However, applications will only be accepted from eligible entities that propose programs that will provide service to areas that are not currently receiving service from an existing program. This provision prohibiting applications from new programs proposing to service areas currently receiving service from an existing program is absolute, and the provisions of the last sentence of Section V, paragraph C. of the SCAA do not apply should a new applicant propose to service an area currently receiving service from an existing program.

DATES: On-line submissions of applications for new programs will be available on or about December 10, 2004. The closing date for the submission of applications is January 21, 2005 (see Section IV. paragraph C. regarding timely applications). Applications received after January 21, 2005 will not be accepted.

The SCAA is currently available for review on the Internet Web site: http://www.dla.mil/db/scaa2003.pdf.

Printed copies are not available for distribution.

Eligible entities may only submit an application as outlined in Section IV of the SCAA. In order to comply with the electronic portion of the submission, applicants must obtain a log in account and password from DLA. To obtain these, applicants must furnish the Grants Officer written evidence that they meet the criteria of an eligible entity as set forth in either paragraph “19.d” or “19.e” of Section II of the SCAA. This information should be mailed or otherwise delivered to : HQ, Defense Logistics Agency, Small and Disadvantaged Business Utilization Office (DB Room 1127), 8725 John J. Kingman Road, Ft. Belvoir, VA 22060-6221.

FOR FURTHER INFORMATION CONTACT: If you have any questions or need additional information please contact Ms. Diana Maykowskyj at (703) 767-1656.

Anthony J. Kuders,
Program Manager, DoD, Procurement Technical Assistance Program.

[FR Doc. 04-27323 Filed 12-13-04; 8:45 am]

BILLING CODE 3620-01-M